DEPARTMENT OF AGRICULTURE

Food and Nutrition Service

Agency Information Collection Activities: Proposed Collection; Comment Request—State Administrative Expense Funds Regulations

AGENCY: Food and Nutrition Service, USDA.

ACTION: Notice.

SUMMARY: In accordance with the Paperwork Reduction Act of 1995, this Notice announces the Food and Nutrition Service's (FNS) intention to request Office of Management and Budget (OMB) review of the information collection related to State administrative expense funds.

DATES: To be assured of consideration, comments must be received by May 23, 2005.

ADDRESSES: Send comments and requests for copies of this information collection to: Mr. Terry Hallberg, Chief, Program Analysis and Monitoring Branch, Child Nutrition Division, Food and Nutrition Service, U.S. Department of Agriculture, 3101 Park Center Drive, Room 636, Alexandria, Virginia 22302. Comments will also be accepted via E-Mail submission if sent to CNDPROPOSAL@FNS.USDA.GOV.

Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical, or other technological collection techniques or other forms of information technology. All responses to this Notice will be summarized and included in the request for OMB approval, and will become a matter of public record.

FOR FURTHER INFORMATION CONTACT: Mr. Terry Hallberg at (703) 305-2590.

SUPPLEMENTARY INFORMATION: Title: State Administrative Expense Funds Regulations.

OMB Number: 0584-0067.

Form Number(s): FNS-74, FNS-525.

Expiration Date: September 30, 2005.

Type of Request: Extension of a currently approved collection.

Abstract: Section 7 of the Child Nutrition Act of 1966 (Pub. L. 89-642), 42 U.S.C. 1776, authorizes the Department to provide Federal funds to State agencies (SAs) for administering the Child Nutrition Programs. State Administrative Expense Funds (SAE), 7 CFR Part 235, sets forth procedures and recordkeeping requirements for use by SAs in reporting and maintaining records of their needs and uses of SAE funds.

Estimate of Burden: There is no change to the reporting or recordkeeping burdens.

Estimated Time per Response: 2.27 hours.

Estimated Number of Respondents: 88 respondents.

Average Number of Responses per Respondent: 2,052 responses.

Estimated Total Annual Burden on Respondents: 12,922 burden hours.

Dated: March 11, 2005.
Roberto Salazar,
Administrator, Food and Nutrition Service.

[FR Doc. 05-5569 Filed 3-21-05; 8:45 am]

BILLING CODE 3410-30-P